DEPARTMENT OF HEALTH AND HUMAN SERVICES

Centers for Disease Control and Prevention

Board of Scientific Counselors, National Center for Health Statistics (BSC, NCHS)

AGENCY: Centers for Disease Control and Prevention (CDC), Department of Health and Human Services (HHS).

ACTION: Notice of meeting.

SUMMARY: In accordance with the Federal Advisory Committee Act, the CDC announces the following meeting for the Board of Scientific Counselors, National Center for Health Statistics BSC, NCHS). This meeting is open to the public. Time will be available for public comment.

DATES: The meeting will be held on May 26, 2022, from 11:00 a.m. to 5:30 p.m., EDT (times subject to change).

ADDRESSES: Instructions to access the meeting will be posted here: https://www.cdc.gov/nchs/about/bsc/bsc_meetings.htm.

FOR FURTHER INFORMATION CONTACT: Rebecca Hines, M.H.S., Executive Secretary, NCHS/CDC, Board of Scientific Counselors, 3311 Toledo Road, Room 2627, Hyattsville, Maryland 20782, Telephone: (301) 458-4717; Email: RSHines@cdc.gov.

SUPPLEMENTARY INFORMATION: Purpose: The Board is charged with providing advice and making recommendations to the Secretary, Department of Health and Human Services; the Director, CDC; and the Director, NCHS, regarding the scientific and technical program goals and objectives, strategies, and priorities of NCHS.

Matters to be Considered: The meeting agenda will include welcome remarks and a Center update by the NCHS Director; an update on CDC's Data Modernization Initiative (DMI) and DMI-funded projects at NCHS; a report out from the Population Health Survey Planning, Methodology and Data Presentation (PHSPMDP) Workgroup on their assessment of the use of panel survey data by NCHS, and; a report out from the new Workgroup to Consider and Assess Measures of Discrimination for use in NCHS surveys.

The Board will reserve time for public comment at the end of the day. Agenda items are subject to change as priorities dictate.

Meeting Information: Please visit the BSC website for details: https://www.cdc.gov/nchs/about/bsc/bsc_meetings.htm.

Further information and the meeting agenda will be available on the BSC website including instructions for accessing the live meeting broadcast.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2022-07242 Filed 4-5-22; 8:45 am]

BILLING CODE 4163-18-P